DEPARTMENT OF COMMERCE

International Trade Administration

[A-428-803]

Industrial Nitrocellulose From Germany: Notice of Rescission of Antidumping Duty Administrative Review

AGENCY: Import Administration, International Trade Administration, Department of Commerce.

ACTION: Notice of rescission of antidumping duty administrative review.

SUMMARY: On August 27, 2003, the Department of Commerce (the Department) published in the Federal Register a notice announcing the initiation of the administrative review of the antidumping duty order on industrial nitrocellulose (INC) from Germany for Wolff Walsrode AG (Wolff) and Hagedorn AG (Hagedorn). See Initiation of Antidumping and Countervailing Duty Administrative Reviews and Requests for Revocation in Part, 67 FR 55000 (August 27, 2003) (Initiation Notice). Green Tree Technologies, Inc. (Green Tree), the sole domestic producer of industrial nitrocellulose, requested a review of Wolff and Hagedorn; Wolff requested a review of itself. The review covers the period July 1, 2002, through June 30, 2003. We are now rescinding this review as a result of Green Tree's and Wolff's timely withdrawal of their requests for an administrative review of Wolff and the non-shipper status of Hagedorn.

EFFECTIVE DATE: March 22, 2004.

FOR FURTHER INFORMATION CONTACT: Ron Trentham, or Tom Futtner, Group II, Office 4, Office of AD/CVD Enforcement, Import Administration, International Trade Administration, U.S. Department of Commerce, 14th Street and Constitution Avenue, NW., Washington, DC 20230; telephone (202) 482-6320 or (202) 482-3814, respectively.

SUPPLEMENTARY INFORMATION:

Scope of Review

The merchandise under review is industrial nitrocellulose from Germany. The merchandise is currently classifiable under item number 3912.20.00 of the Harmonized Tariff Schedule of the United States (HTSUS). Although the HTSUS item number is provided for convenience and customs purposes, the written description of the merchandise under review is dispositive of whether or not the merchandise is covered by the review.

Background

On July 29, 2003, Green Tree requested that the Department conduct an administrative review of entries of subject merchandise produced by Wolff and Hagedorn. On July 31, 2003, Wolff requested that the Department conduct an administrative review of its sales during the period of review (POR). On August 27, 2003, the Department initiated an administrative review of the antidumping duty order on INC from Germany. See Initiation Notice.

Rescission of 2002/2003 Antidumping Duty Administrative Review

On September 17, 2003, in response to the Department's questionnaire, Hagedorn stated that it had made no shipments of subject merchandise to the United States during the POR. The Department independently confirmed with the U.S. Customs and Border Protection that there were no shipments of subject merchandise from Hagedorn during the POR. Therefore, in accordance with section 351.213(d)(3) of the Department's regulations, and consistent with our practice, we are treating this firm as a non-shipper for purposes of this review. Moreover, the Department invited interested parties to comment on our intent to rescind this review with respect to Hagedorn. See Memorandum to File from Ron Trentham, dated February 5, 2004. We received no comments. Therefore, we are rescinding this review with respect to Hagedorn (see, e.g., Certain Welded Carbon Steel Pipe and Tube from Turkey: Final Results and Partial Rescission of Antidumping Administrative Review, 63 FR 35190, 35191 (June 29, 1998)).

On November 3, 2003, and November 20, 2003, respectively, Wolff and Green Tree withdrew their requests that the Department conduct an administrative review of Wolff's sales. These withdrawals comply with section 351.213(d)(1) of the Department's regulations which allows parties to withdraw their request for review within 90 days from initiation. Because of the non-shipper status of Hagedorn and the timely requests for termination of the review for Wolff, the Department is rescinding this review in its entirety in accordance with section 351.213(d) of our regulations.

This notice is in accordance with section 751 of the Act and section 351.213(d) of the Department's regulations.

Dated: March 16, 2004.
Holly A. Kuga,
Acting Deputy Assistant Secretary, Import Administration.

[FR Doc. 04-6349 Filed 3-19-04; 8:45 am]

BILLING CODE 3510-DS-P